COMMISSION ON CIVIL RIGHTS

Notice of Public Meetings of the Ohio Advisory Committee to the U.S. Commission on Civil Rights

AGENCY: U.S. Commission on Civil Rights.

ACTION: Notice of virtual business meetings.

SUMMARY: Notice is hereby given, pursuant to the provisions of the rules and regulations of the U.S. Commission on Civil Rights (Commission) and the Federal Advisory Committee Act, that the Ohio Advisory Committee (Committee) to the U.S. Commission on Civil Rights will hold public meetings via Zoom. The purpose of the meetings is to review and vote on the Committee's draft report on antisemitism.

DATES:

• Friday, February 20, 2026, from 2:00 p.m. to 3:00 p.m. Eastern Time.

• Monday, March 16, 2026, from 2:00 p.m. to 3:00 p.m. Eastern Time.

• Tuesday, April 7, 2026, from 1:00 p.m. to 2:00 p.m. Eastern Time.

ADDRESSES: The meetings will be held via Zoom.

• 2/20/26 Registration Link (Audio/Visual): https://www.zoomgov.com/webinar/register/WN_sowH38giRWSSrpuGIoXhlA.

Join by Phone (Audio Only): 1-833-435-1820 USA Toll Free; ID: 160 342 4228 #.

• 3/16/26 Registration Link (Audio/Visual): https://www.zoomgov.com/webinar/register/WN_NOKxQNAXSq63HGfD1d786A.

Join by Phone (Audio Only): 1-833-435-1820 USA Toll Free; ID: 161 612 0085 #.

• 4/7/26 Registration Link (Audio/Visual): https://www.zoomgov.com/webinar/register/WN_z2eAzP7wQ_StFCzSjdhj-g.

Join by Phone (Audio Only): 1-833-435-1820 USA Toll Free; ID: 161 336 4728 #.

Agendas:

• 2/20/26: https://usccr.box.com/s/30gil4kdx44a2iqgoiqflqny4zr8o9bt (note: a final meeting agenda will be available prior to the meeting date).

• 3/16/26: https://usccr.box.com/s/6sd6ltb0rorryxfjod54paxvexgvc4bm (note: a final meeting agenda will be available prior to the meeting date).

• 4/7/26: https://usccr.box.com/s/6tfw9qqbvd7n8wglwanpoc6tuw0pmn9x (note: a final meeting agenda will be available prior to the meeting date).

FOR FURTHER INFORMATION CONTACT: Mallory Trachtenberg, Designated Federal Officer, at mtrachtenberg@usccr.gov or 1-202-809-9618.

SUPPLEMENTARY INFORMATION: This Committee meetings are available to the public through the registration link above. Any interested members of the public may attend these meetings. Open comment periods will be provided to allow members of the public to make oral comments as time allows. Pursuant to the Federal Advisory Committee Act, public minutes of the meetings will include a list of persons who are present at the meetings. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email mtrachtenberg@usccr.gov at least 5 business days prior to the meetings.

Members of the public are entitled to submit written comments; the comments must be received in the regional office within 30 days following the scheduled meetings. Written comments may be emailed to mtrachtenberg@usccr.gov. Persons who desire additional information may contact the Regional Programs Coordination Unit at 1-202-809-9618.

Records generated from these meetings may be inspected and reproduced at the Regional Programs Coordination Unit Office, as they become available, both before and after each meeting. Records of the meetings will be available via the file sharing website, https://bit.ly/4g3IB4K. Persons interested in the work of this Committee are directed to the Commission's website, http://www.usccr.gov, or may contact the Regional Programs Coordination Unit at mtrachtenberg@usccr.gov.

Dated: January 5, 2026.
David Mussatt,
Supervisory Chief, Regional Programs Unit.

[FR Doc. 2026-00123 Filed 1-7-26; 8:45 am]

BILLING CODE P